INTERNATIONAL TRADE COMMISSION

[Investigation No. 332-529]

Advice Concerning Possible Modifications to the U.S. Generalized System of Preferences, 2011 Review of Additions and Competitive Need Limitation Waivers Institution of Investigation and Scheduling of Hearing

AGENCY: United States International Trade Commission.

ACTION: Notice of institution of investigation and scheduling of public hearing.

SUMMARY: Following receipt of a request on February 14, 2012, from the United States Trade Representative (USTR), the U.S. International Trade Commission (Commission) instituted investigation No. 332-529, Advice Concerning Possible Modifications to the U.S. Generalized System of Preferences, 2011 Review of Additions and Competitive Need Limitation Waivers, for the purpose of providing advice as to the probable economic effect of the addition of certain products to the list of items eligible for duty-free treatment under the U.S. GSP program and providing advice on whether any industry in the United States is likely to be adversely affected by a waiver of the competitive need limitations under the program for certain countries and articles.

DATES:

March 12, 2012: Deadline for filing a request to appear at the public hearing.

March 15, 2012: Deadline for filing pre-hearing briefs and statements.

March 30, 2012: Public hearing.

April 4, 2012: Deadline for filing post-hearing briefs and statements.

April 4, 2012: Deadline for filing all other written submissions.

May 14, 2012: Transmittal of Commission report to the USTR.

ADDRESSES: All Commission offices, including the Commission's hearing rooms, are located in the United States International Trade Commission Building, 500 E Street SW., Washington, DC. All written submissions should be addressed to the Secretary, United States International Trade Commission, 500 E Street SW., Washington, DC 20436. The public record for this investigation may be viewed on the Commission's electronic docket (EDIS) at http://edis.usitc.gov.

FOR FURTHER INFORMATION CONTACT: Information specific to this investigation may be obtained from Vincent Honnold, Project Leader, Office of Industries (202-205-3314 or vincent.honnold@usitc.gov), Michael McConnell, Deputy Project Leader, Office of Industries (202-205-3443 or michael.mcconnell@usitc.gov), or Cynthia B. Foreso, Technical Advisor, Office of Industries (202-205-3348 or cynthia.foreso@usitc.gov). For information on the legal aspects of these investigations, contact William Gearhart of the Commission's Office of the General Counsel (202-205-3091 or william.gearhart@usitc.gov). The media should contact Margaret O'Laughlin, Office of External Relations (202-205-1819 or margaret.olaughlin@usitc.gov). Hearing-impaired individuals may obtain information on this matter by contacting the Commission's TDD terminal at 202-205-1810. General information concerning the Commission may also be obtained by accessing its Internet server (http://www.usitc.gov). Persons with mobility impairments who will need special assistance in gaining access to the Commission should contact the Office of the Secretary at 202-205-2000.

Background: The USTR has requested three types of advice. First, in accordance with sections 503(a)(1)(A), 503(e), and 131(a) of the Trade Act of 1974, and pursuant to the authority of the President delegated to the USTR by sections 4(c) and 8(c) and (d) of Executive Order 11846 of March 31, 1975, as amended, and pursuant to section 332(g) of the Tariff Act of 1930, the USTR has requested, and the Commission will provide, advice as to the probable economic effect on U.S. industries producing like or directly competitive articles, on U.S. imports, and on U.S. consumers of the elimination of U.S. import duties on the following article for all beneficiary developing countries under the GSP program: Sacks and bags (including cones) for the conveyance or packing of goods, of polymers of ethylene, provided for in HTS subheading 3923.21.00.

Second, in accordance with sections 503(a)(1)(B), 503(e), and 131(a) of the Trade Act of 1974, and pursuant to the authority of the President delegated to the USTR by sections 4(c) and 8(c) and (d) of Executive Order 11846 of March 31, 1975, as amended, and pursuant to section 332(g) of the Tariff Act of 1930, the USTR has requested, and the Commission will provide, advice as to the probable economic effect on U.S. industries producing like or directly competitive articles, on U.S. imports, and on U.S. consumers of the elimination of U.S. import duties on the following HTS subheadings and articles for least-developed beneficiary developing countries under the GSP program: HTS subheadings 5201.00.18 (Cotton, not carded or combed, having a staple length under 28.575 mm (1⅛ inches), n/harsh or rough, nesoi), 5201.00.22 (Cotton, not carded or combed, staple length of 28.575 mm or more but under 34.925 mm, described in gen. note 15), 5201.00.24 (Cotton, carded or combed, harsh or rough, staple length 29.36875 mm or more but n/o 34.925 mm, white in color, quota described in chapter 52 add US note 6), 5201.00.28 (Cotton, not carded or combed, harsh or rough, staple length of 29.36875 mm or more but under 34.925 mm & white in color, nesoi), 5201.00.34 (Cotton, not carded or combed, staple length of 28.575 mm or more but under 34.925 mm, other, quota described in chapter 52 add'l US note 7), 5201.00.38 (Cotton, not carded or combed, staple length of 28.575 mm or more but under 34.925 mm, nesoi), 5202.91.00 (Cotton garnetted stock), 5202.99.30 (Cotton card strips made from cotton waste having staple length under 30.1625 mm & lap, sliver & roving waste, nesoi), 5203.00.05 (Cotton fibers, carded or combed, of cotton fiber processed but not spun, described in gen. note 15), 5203.00.10 (Cotton fibers, carded or combed, of cotton fiber processed but not spun, quota described in chapter 52 add'l US note 10), 5203.00.30 (Cotton fibers, carded or combed, of cotton fiber processed, but not spun, nesoi), and 5203.00.50 (Cotton carded or combed, excluding fibers of cotton processed but not spun).

Third, under authority delegated by the President, pursuant to section 332(g) of the Tariff Act of 1930, and in accordance with section 503(d)(1)(A) of the Trade Act of 1974, the USTR has requested, and the Commission will provide, advice on whether any industry in the United States is likely to be adversely affected by a waiver of the competitive need limitations specified in section 503(c)(2)(A) of the Trade Act of 1974 for the following HTS subheadings and countries: 1602.50.20 (Prepared or preserved beef in airtight containers, other than corned beef, not containing cereals or vegetables) from Argentina; 2840.19.00 (Disodium tetraborate (refined borax) except anhydrous) from Turkey; 2921.19.60 (Other acyclic monoamines and their derivatives) from Philippines; 2922.41.00 (Lysine and its esters and salts thereof) from Brazil; 3307.41.00 (“Agarbatti” and other odoriferous preparations which operate by burning, to perfume or deodorize rooms or used during religious rites) from India; 4015.19.10 (Seamless gloves of vulcanized rubber other than hard rubber, other than surgical or medical gloves) from Thailand; 7606.12.30 (Aluminum alloy, plates/sheets/strip, w/thick. o/0.2mm, rectangular (inc. sq), not clad) from Indonesia; 8415.90.80 (Parts for air conditioning machines, nesi) from Thailand; and 8708.30.50 (Pts. & access. of mtr. vehicles of 8701, nesoi, and 8702-8705, brakes and servo-brakes & pts thereof) from India. As requested, the Commission will also provide advice with respect to whether like or directly competitive products were being produced in the United States on January 1, 1995, and will provide advice as to the probable economic effect on total U.S. imports, as well as on consumers, of the requested waivers. For purposes of the competitive need limit in section 503(c)(2)(A)(i)(I) of the Trade Act of 1974, the Commission will use, as requested, the dollar value limit of $150,000,000.

To the extent possible, the Commission will provide its probable economic effect advice and statistics and other relevant information or advice separately and individually for each U.S. Harmonized Tariff Schedule subheading subject to this request. As requested, the Commission will provide its advice by May 14, 2012.

The USTR indicated that the portions of the Commission's report and working papers that contain the Commission's advice and assessment will be classified on the basis that they concern matters relating to the national security. In addition, the USTR said that he considers the Commission's report to be an inter-agency memorandum that will contain pre-decisional advice and be subject to the deliberative process privilege.

Public Hearing: A public hearing in connection with this investigation will be held at the U.S. International Trade Commission Building, 500 E Street SW., Washington, DC, beginning at 9:30 a.m. on March 30, 2012. Requests to appear at the public hearing should be filed with the Secretary, no later than 5:15 p.m., March 12, 2012, in accordance with the requirements in the “Submissions” section below. All pre-hearing briefs and statements should be filed not later than 5:15 p.m., March 15, 2012; and all post-hearing briefs and statements should be filed not later than 5:15 p.m., April 4, 2012. In the event that, as of the close of business on March 12, 2012, no witnesses are scheduled to appear at the hearing, the hearing will be canceled. Any person interested in attending the hearing as an observer or nonparticipant may call the Secretary to the Commission (202-205-2000) after March 12, 2012, for information concerning whether the hearing will be held.

Written Submissions: In lieu of or in addition to participating in the hearing, interested parties are invited to file written submissions concerning this investigation. All written submissions should be addressed to the Secretary, and should be received not later than 5:15 p.m., April 4, 2012. All written submissions must conform with the provisions of section 201.8 of the Commission's Rules of Practice and Procedure (19 CFR 201.8). Section 201.8 requires that a signed original (or a copy so designated) and fourteen (14) copies of each document be filed. In the event that confidential treatment of a document is requested, at least four (4) additional copies must be filed, in which the confidential information must be deleted (see the following paragraph for further information regarding confidential business information). The Commission's rules authorize filing submissions with the Secretary by facsimile or electronic means only to the extent permitted by section 201.8 of the rules (see Handbook for Electronic Filing Procedures, http://www.usitc.gov/secretary/fed_reg_notices/rules/documents/handbook_on_electronic_filing.pdf). Persons with questions regarding electronic filing should contact the Secretary (202-205-2000).

Any submissions that contain confidential business information must also conform with the requirements of section 201.6 of the Commission's Rules of Practice and Procedure (19 CFR 201.6). Section 201.6 of the rules requires that the cover of the document and the individual pages be clearly marked as to whether they are the “confidential” or “non-confidential” version, and that the confidential business information be clearly identified by means of brackets. All written submissions, except for confidential business information, will be made available for inspection by interested parties.

The Commission may include in the report it sends to the President and the USTR some or all of the confidential business information it receives in this investigation. The USTR has asked that the Commission make available a public version of its report shortly after its sends its report to the President and the USTR, with any classified or confidential business information deleted. The confidential business information received in this investigation and used in the preparation of the report will not be published in the public version of the report in such manner as would reveal the operations of the firm supplying the information.

By order of the Commission.
Issued: February 22, 2012.
James R. Holbein,
Secretary to the Commission.

[FR Doc. 2012-4496 Filed 2-24-12; 8:45 am]

BILLING CODE 7020-02-P